DEPARTMENT OF EDUCATION

Submission of Data by State Educational Agencies

AGENCY: National Center for Education Statistics, Department of Education.

ACTION: Notice of dates of submission of State revenue and expenditure reports for fiscal year 2002 and of revisions to those reports.

SUMMARY: The Secretary of Education announces dates for the submission by State educational agencies (SEAs) of expenditure and revenue data and average daily attendance statistics on ED Form 2447 (the National Public Education Financial Survey) for fiscal year (FY) 2002. The Secretary sets these dates to ensure that data are available to serve as the basis for timely distribution of Federal funds. The U.S. Bureau of the Census is the data collection agent for the Department's National Center for Education Statistics (NCES). The data will be published by NCES and will be used by the Secretary in the calculation of allocations for FY 2004 appropriated funds.

DATES: The date on which submissions will first be accepted is March 17, 2003. The mandatory deadline for the final submission of all data, including any revisions to previously submitted data, is September 2, 2003.

ADDRESSES: SEAs may mail ED Form 2447 to: Bureau of the Census, Attention: Governments Division, Washington, DC 20233-6800.

SEAs may submit data via the World Wide Web using the interactive form at http://www.census.gov/govs/www/nperfs.html. If the web form is used, it includes a certification page that can be printed and signed by the authorizing official. This signed page must be mailed within five business days of web form data submission.

Alternatively, SEAs may hand deliver submissions by 4 p.m. (eastern time) to: Governments Division, Bureau of the Census, 8905 Presidential Parkway, Washington Plaza II, Room 508, Upper Marlboro, MD 20772.

If an SEA's submission is received by the Bureau of the Census after September 2, 2003, in order for the submission to be accepted, the SEA must show one of the following as proof that the submission was mailed on or before the mandatory deadline date:

1. A legibly dated U.S. Postal Service postmark.

2. A legible mail receipt with the date of mailing stamped by the U.S. Postal Service.

3. A dated shipping label, invoice, or receipt from a commercial carrier.

4. Any other proof of mailing acceptable to the Secretary.

If the SEA mails ED Form 2447 through the U.S. Postal Service, the Secretary does not accept either of the following as proof of mailing:

1. A private metered postmark.

2. A mail receipt that is not dated by the U.S. Postal Service.

Note: The U.S. Postal Service does not uniformly provide a dated postmark. Before relying on this method, an SEA should check with its local post office.

FOR FURTHER INFORMATION CONTACT: Mr. Lawrence R. MacDonald, Chief, Bureau of the Census, Attention: Governments Division, Washington, DC 20233-6800. Telephone: (301) 457-1574. If you use a telecommunications device for the deaf (TDD), you may call the Federal Information Relay Service (FIRS) at 1-800-877-8339.

Individuals with disabilities may obtain this document in an alternative format (e.g., Braille, large print, audiotape, or computer diskette) on request to: Frank Johnson, National Center for Education Statistics, U.S. Department of Education, Washington, DC 20208-5651. Telephone: (202) 502-7362.

SUPPLEMENTARY INFORMATION: Under the authority of section 153(a)(1)(I) of the Education Sciences Reform Act of 2002 (Pub. L. 107-279), 20 U.S.C. 9543, which authorizes NCES to gather data on the financing of education, NCES collects data annually from SEAs through ED Form 2447. The report from SEAs includes attendance, revenue, and expenditure data from which NCES determines the average State per pupil expenditure (SPPE) for elementary and secondary education, as defined in the Elementary and Secondary Education Act of 1965 (ESEA) (currently 20 U.S.C. 8801(12)).

In addition to utilizing the SPPE data as informative information on the financing of elementary and secondary education, the Secretary uses these data directly in calculating allocations for certain formula grant programs, including title I of the Elementary and Secondary Education Act of 1965 as amended by the No Child Left Behind Act (title I), Impact Aid, and Indian Education. Other programs such as the Educational Technology State Grants (title II, part D), the Education for Homeless Children and Youth Program under title VII of the McKinney-Vento Homeless Assistance Act, the Teacher Quality State Grants (title II, part A) Program, and the Safe and Drug-Free Schools and Communities (title IV, part A) Program make use of SPPE data indirectly because their formulas are based, in whole or in part, on State title I allocations.

In January 2003, the Bureau of the Census, acting as the data collection agent for NCES, will mail to SEAs ED Form 2447 with instructions and request that SEAs submit data to the Bureau of the Census on March 17, 2003, or as soon as possible thereafter. SEAs are urged to submit accurate and complete data on March 17, or as soon as possible thereafter, to facilitate timely processing. Submissions by SEAs to the Bureau of the Census will be checked for accuracy and returned to each SEA for verification. All data, including any revisions, must be submitted to the Bureau of the Census by an SEA not later than September 2, 2003.

Having accurate and consistent information, on time, is critical to an efficient and fair allocation process, as well as the NCES statistical process. To ensure timely distribution of Federal education funds based on the best, most accurate data available, NCES establishes, for allocation purposes, September 2, 2003, as the final date by which ED Form 2447 must be submitted. However, if an SEA submits revised data after the final deadline that results in a lower SPPE figure, its allocations may be adjusted downward or the Department may request the SEA to return funds. SEAs should be aware that all of these data are subject to audit and that, if any inaccuracies are discovered in the audit process, the Department may seek recovery of overpayments for the applicable programs. If an SEA submits revised data after September 2, 2003, the data may also be too late to be included in the final NCES published dataset.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Authority: 20 U.S.C. 9003(a).

Dated: February 4, 2003.
Grover J. Whitehurst,
Director, Institute of Education Sciences.

[FR Doc. 03-3067 Filed 2-6-03; 8:45 am]

BILLING CODE 4000-01-P